DEPARTMENT OF ENERGY

Federal Energy Regulatory Commission

[Docket No. IC22-34-000]

Commission Information Collection Activities (FERC-550), Comment Request Extension

AGENCY: Federal Energy Regulatory Commission, Department of Energy.

ACTION: Comment request.

SUMMARY: In compliance with the requirements of the Paperwork Reduction Act of 1995, the Federal Energy Regulatory Commission (Commission or FERC) is soliciting public comment on the currently approved information collection, FERC-550 (Oil Pipeline Rates—Tariff Filings and Depreciation Studies).

DATES: Comments on the collection of information are due November 7, 2022.

ADDRESSES: Send written comments on FERC-550 (IC22-34-000) to the Commission. You may submit copies of your comments by one of the following methods:

Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only Addressed to: Federal Energy Regulatory Commission, Secretary of the Commission, 888 First Street NE, Washington, DC 20426.

○ Hand (including courier) delivery to: Federal Energy Regulatory Commission, 12225 Wilkins Avenue, Rockville, MD 20852.

Instructions: FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION: Title: FERC-550, Oil Pipeline Rates—Tariff Filings and Depreciation Studies.

OMB Control No.: 1902-0089.

Type of Request: Three-year extension of the FERC-550 information collection requirements with no revisions to the collection, but with adjustments in the burden estimates.

Abstract: FERC-550 is required to assist the Commission in implementing the duties and powers that were vested on October 1, 1977, in the Interstate Commerce Commission (49 U;S.C. 60502). The Commission's regulatory jurisdiction over oil pipelines includes:

• Regulation of rates and practices of oil pipeline companies engaged in interstate transportation;

• Establishment of equal service conditions to provide shippers with equal access to pipeline transportation; and

• Establishment of reasonable rates for transporting petroleum and petroleum products by pipeline.

Oil Pipeline Tariffs and Rates

The filing requirements for oil pipeline tariffs and rates ¹ put in place by the FERC-550 data collection provide the Commission with the information it needs to analyze proposed tariffs, rates, fares, and charges of oil pipelines and other carriers in connection with the transportation of crude oil and petroleum products. Specifically, these filings typically include indexing, market-based rates, or initial rate filings. The Commission uses this information to determine whether the proposed tariffs and rates are just and reasonable.

¹ 18 CFR parts 341 through 348.

The Commission's regulations at 18 CFR parts 341 through 348 provide that letters of transmittal must describe the filings and explain any changes to the carrier's rates, rules, terms or conditions of service; state if a waiver is being requested, and specify the statute, section, regulation, policy, or order requested to be waived; and identify the tariffs supplemental numbers, or tariff sections and the proposed effective date of the tariff publication. The letter of transmittal must certify that the filing has been sent to each subscriber of the tariff publication. A carrier may file to amend or modify a tariff contained in a tariff filing at any time during the pendency of the filing. Carriers must cancel tariffs when the service or transportation movement is terminated. If the service in connection with the tariff is no longer in interstate commerce, the tariff publication must state so. Whenever the tariff of a carrier on file with the Commission is to be adopted by another carrier as a result of an acquisition, merger, or name change, the succeeding company must file with the Commission, and post within 30 days after such succession, the tariff, or portion thereof, that has been adopted in the electronic format required by § 341.1 bearing the name of the successor company.

Oil Pipeline Depreciation Studies

The Commission's regulation at 18 CFR 347.1 provides that oil pipelines must file material to support requests for newly established or changed property account depreciation studies. It requires an applicant to file electronically, and the transmittal letter must give a general description of the change in depreciation rates, certify that the transmittal also has been sent to each shipper and to each subscriber, and state if there are no subscribers. The proposed depreciation rates being established must be used until they are either accepted or modified by the Commission. Rates in effect at the time of the proposed revision must continue to be used until the proposed revised rates are approved or modified by the Commission. The oil pipeline must provide information in sufficient detail to fully explain and justify the proposed rates. Modifications, additions, and deletions to data elements should be made to reflect the individual circumstances of the carrier's properties and operations.

Type of Respondent: Oil Pipelines.

Estimate of Annual Burden: ² The burden related to this collection now includes a new line item, Depreciation Studies, which is currently approved by OMB under the FERC collection FERC-550 (1902-0089), but historically was combined with other requirements outlined in 18 CFR parts 341 through 348. Depreciation studies are required if an oil pipeline seeks to modify the depreciation rates they have in their existing tariffs. Since these filings are submitted only for pipelines seeking modification, and are more rare (<10% of filings) than other reporting requirements such as indexing. Staff is correcting the estimates by adding a new line item specific to depreciation studies. Based on recent experience with this collection, staff estimates that 22 respondents will file a depreciation study each year. By separating depreciation studies from tariff filings, this adjustment will allocate 880 total burden hours to the depreciation studies line item now being added.

² “Burden” is the total time, effort, or financial resources expended by persons to generate, maintain, retain, or disclose or provide information to or for a Federal agency. For further explanation of what is included in the information collection burden, refer to 5 CFR 1320.3.

In another adjustment, the number of hours for Oil Rates and Tariff Filings will decrease from 7.8 hours to 7 hours per respondent due to the hour allocation going to the second line (Depreciation Studies) in the table below. Additionally, since the previous renewal, the number of respondents to Oil Rates and Tariff filings also increased from 219 to 258 based on the number of filings received by the Commission. The overall revised burden estimates result to an increase to 280 (+61) respondents, 796 (+86) responses, and 6,298 hours (+760).

The Commission estimates the annual public reporting burden and cost ³ for the FERC-550 information collection as follows:

³ The Commission staff thinks that the hourly cost (for wages and benefits) for industry staff completing the FERC-550 is similar to the cost of FERC employees. FERC staff estimates that industry costs for salary plus benefits are similar to Commission costs. The cost figure is the FY2022 FERC average annual salary plus benefits ($188,992/year or $91/hour).

FERC-550: Oil Pipeline Rates—Tariff Filings and Depreciation Studies
| Number of respondents | Annual number of responses per respondent | Total number of responses ⁴ | Average burden hrs. & cost ($) per response | Total annual burden hours & total annual cost ($) | Cost per respondent ($)
| (1) | (2) | (1) * (2) = (3) | (4) | (3) * (4) = (5) | (5) ÷ (1)
Oil Rates and Tariff Filings | 258 | 3 | 774 | 7 hrs.; $637 | 5,418 hrs.; $493,038 | $1,911
Depreciation ⁵ Studies | 22 | 1 | 22 | 40 hrs.; $3,640 | 880 hrs.; $80,080 | $3,640
Total | 280 |  | 796 |  | 6,298 hrs.; $573,118 |
⁴ This figure is rounded.
⁵ Depreciation Studies previously was included under Oil Rates and Tariff Filings in the OMB inventory under OMB Control No. 1902-0089. However, for a more accurate estimate of burden a new row was added for Depreciation Studies (18 CFR 347.1). This new row will properly account for the differences in burden hours and type of filing with the Oil Rates and Tariff filings (18 CFR parts 341 through 348).

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: August 31, 2022.
Kimberly D. Bose,
Secretary.

[FR Doc. 2022-19251 Filed 9-6-22; 8:45 am]

BILLING CODE 6717-01-P